COMMISSION ON CIVIL RIGHTS

Notice of Public Meeting of the Texas Advisory Committee

AGENCY: U.S. Commission on Civil Rights.

ACTION: Announcement of virtual business meetings.

SUMMARY: Notice is hereby given, pursuant to the provisions of the rules and regulations of the U.S. Commission on Civil Rights (Commission) and the Federal Advisory Committee Act (FACA) that the Texas Advisory Committee (Committee) will hold a series of meetings via ZoomGov on the following dates and times listed below. These virtual business meetings are for the purpose of reviewing and editing their interim report.

DATES: These meetings will take place on:

• Thursday, April 27, 2023, from 12 p.m.-1 p.m. CT

• Wednesday, May 10, 2023, from 12 p.m.-1 p.m. CT

Zoom Link To Join

• Thursday, April 27th: https://www.zoomgov.com/meeting/register/vJItfu-vqTIuHqhl4g6NNHdH-cyMH4iA4Sw.

• Wednesday, May 10th: https://www.zoomgov.com/meeting/register/vJItcuiorzMqHtrE2kJXykzAPNK0lOrhsSE.

FOR FURTHER INFORMATION CONTACT: Brooke Peery, DFO, at bpeery@usccr.gov or (202) 701-1376.

SUPPLEMENTARY INFORMATION: Committee meetings are available to the public through the videoconference link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Closed captions will be provided for individuals who are deaf or hard of hearing. To request additional accommodations, please email bpeery@usccr.gov at least 10 business days prior to the meeting.

Members of the public may also submit written comments; the comments must be received in the Regional Programs Unit within 30 days following the meeting. Written comments may be emailed to Brooke Peery (DFO) at bpeery@usccr.gov.

Records and documents discussed during the meeting will be available for public viewing prior to and after the meeting at https://www.facadatabase.gov/FACA/FACAPublicViewCommitteeDetails?id=a10t0000001gzkoAAA.

Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

I. Welcome & Roll Call

II. Approval of Minutes

III. Committee Discussion

IV. Public Comment

V. Adjournment

Dated: April 10, 2023.
David Mussatt,
Supervisory Chief, Regional Programs Unit.

[FR Doc. 2023-07841 Filed 4-12-23; 8:45 am]

BILLING CODE 6335-01-P